ENVIRONMENTAL PROTECTION AGENCY

40 CFR Part 52

[EPA-R05-OAR-2013-0415; FRL 9908-16-Region 5]

Approval and Promulgation of Air Quality Implementation Plans; Indiana; Evansville Area; 1997 Annual Fine Particulate Matter Maintenance Plan Revision to Approved Motor Vehicle Emissions Budgets

AGENCY: Environmental Protection Agency (EPA).

ACTION: Direct final rule.

SUMMARY: The Environmental Protection Agency (EPA) is approving a request by Indiana to revise the 1997 annual fine particulate matter (PM2.5) maintenance air quality state implementation plan (SIP) for the Evansville/Southwestern Indiana Area to replace onroad emissions inventories and motor vehicle emissions budgets (budgets) with inventories and budgets developed using EPA's Motor Vehicle Emissions Simulator (MOVES) emissions model. Indiana submitted the SIP revision request for the Evansville Area on July 2, 2013.

DATES: This direct final rule is effective May 19, 2014, unless EPA receives adverse comments by April 18, 2014. If adverse comments are received, EPA will publish a timely withdrawal of the direct final rule in the Federal Register informing the public that the rule will not take effect.

ADDRESSES: Submit your comments, identified by Docket ID No. EPA-R05-OAR-2013-0415, by one of the following methods:

1. www.regulations.gov: Follow the on-line instructions for submitting comments.

2. Email: blakley.pamela@epa.gov

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2013-0415. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is EPA approving?

II. What is the background for this action?

a. SIP Budgets and Transportation Conformity

b. Prior Approval of Budgets

c. The MOVES Emissions Model

d. Submission of MOVES2010a-Based Inventories

III. What are the criteria for approval?

IV. What is EPA's analysis of the state's submittal?

a. The Revised Inventories

b. Approvability of the MOVES2010a-Based Budgets

c. Applicability of MOBILE6.2-Based Budgets

V. What action is EPA taking?

VI. Statutory and Executive Order Reviews

I. What is EPA approving?

EPA is approving new MOVES2010a-based onroad emissions inventories and budgets for the Evansville, Indiana 1997 annual PM2.5 maintenance area that will replace MOBILE6.2-based inventories and budgets in the SIP. The Evansville, Indiana area is comprised of Dubois, Vanderburgh, and Warrick Counties, Montgomery Township in Gibson County, Ohio Township in Spencer County, and Washington Township in Pike County. The area was redesignated to attainment of the 1997 annual PM2.5 standard, effective on October 27, 2011 (76 FR 59527). MOBILE6.2-based onroad emissions inventories and budgets were approved in that action. Upon effective date of approval of the MOVES2010a-based budgets, they must be used in future transportation conformity analyses for the area as required by section 176(c) of the Clean Air Act (CAA). See the official release of the MOVES2010 emissions model (75 FR 9411-9414) for background, and section II.c. below for details.

II. What is the background for this action?

a. SIP Budgets and Transportation Conformity

Under the CAA, states are required to submit control strategy SIP revisions and maintenance plans for nonattainment and maintenance areas for a given national ambient air quality standard (NAAQS). These SIP revisions and maintenance plans include budgets of onroad mobile source emissions for criteria pollutants and/or their precursors. Transportation plans and projects “conform” to (i.e., are consistent with) the SIP when they will not cause or contribute to air quality violations, or delay timely attainment of the NAAQS or an interim milestone.

b. Prior Approval of Budgets

On September 27, 2011 (76 FR 59527), EPA approved MOBILE6.2-based budgets for the Evansville 1997 annual PM2.5 maintenance area for direct emissions of PM2.5 and emissions of its precursor pollutant, nitrogen oxides (NOX). The Evansville area's PM2.5 maintenance plan established 2015 and 2022 budgets. These budgets demonstrated a reduction in emissions from the monitored attainment year.

c. The MOVES Emissions Model

The MOVES model is EPA's state of the art tool for estimating highway emissions. EPA announced the release of MOVES2010 in March 2010 (75 FR 9411). Use of the MOVES model is required for regional emissions analyses for transportation conformity determinations outside of California that begin after March 2, 2013.

The MOVES model was used to estimate emissions in the areas for the same milestone years as the original onroad emissions inventories and budgets in the SIP. The Indiana Department of Environmental Management (IDEM) is revising the onroad emissions inventories and budgets using the latest planning assumptions, including population and employment updates. In addition, newer vehicle registration data have been used to update the age distribution of the vehicle fleets. Since future demonstrations of conformity will use emissions estimates derived with MOVES, it is appropriate to establish benchmarks based on MOVES. The interagency consultation groups for these areas have had extensive consultation on the requirements and need for new budgets.

d. Submission of MOVES2010a-Based Inventories

Indiana submitted onroad inventories to EPA based on MOVES2010a that cover the Evansville, Indiana area on July 2, 2013. During the state public comment period, Indiana did not receive any comments on its submittal.

The new MOVES2010a-based budgets taken from these inventories are for the years 2015 and 2020 for both PM2.5 and NOX. The budgets for these areas are detailed later in this notice.

Table 1—Total Onroad PM2.5 Emissions With MOVES2010a Mobile Emissions in Evansville, Indiana
[Tons per day]
Sector | 2005 Attainment | 2015 Interim | 2022 Maintenance
Onroad | 440.28 | 199.93 | 100.45

Table 2—Total NOX Emissions With MOVES2010a Mobile Emissions in Evansville, Indiana
[Tons per day]
Sector | 2005 Attainment | 2015 Interim | 2022 Maintenance
Onroad | 12,336.71 | 5,642.95 | 3,173.08

As shown in tables 1 and 2, the submittal demonstrates that onroad emissions decrease considerably between the attainment year and the maintenance year. The submittal demonstrates that the MOVES2010a-based onroad emissions' rate of decline is greater than the rate of decline of the originally approved MOBILE6.2-based onroad emissions. No additional control measures were needed to maintain the 1997 annual PM2.5 standard in the Evansville area.

III. What are the criteria for approval?

EPA requires that revisions to existing SIPs and budgets continue to meet applicable requirements (e.g., reasonable further progress, attainment, or maintenance). The SIP must also meet any applicable SIP requirements under CAA section 110. In addition, adequacy criteria found at 40 CFR 93.118(e)(4) must be satisfied before EPA can find submitted budgets adequate and approve them for conformity purposes.

States can revise their budgets and inventories for specific areas using MOVES without revising their entire SIP if (1) the SIP continues to meet applicable requirements when the previous motor vehicle emissions inventories are replaced with MOVES base year and milestone, attainment, or maintenance year inventories, and (2) the state can document that growth and control strategy assumptions for non-motor vehicle sources continue to be valid and any minor updates do not change the overall effectiveness of the SIP. The submittal meets this requirement as described below in the next section.

For more information, see EPA's latest “Policy Guidance on the Use of MOVES2010 for SIP Development, Transportation Conformity, and Other Purposes” (April 2012), available online at: www.epa.gov/otaq/stateresources/transconf/policy.htm# models.

IV. What is EPA's analysis of the state's submittal?

a. The Revised Inventories

The SIP revision request for the area's 1997 annual PM2.5 maintenance plan seeks to revise only the onroad mobile source inventories. IDEM has certified that the control strategies for the area remain the same as in the original SIP, and that no other control strategies are necessary. IDEM has determined that growth and control strategy assumptions for non-mobile sources (i.e., area, nonroad, and point) have not changed significantly from the original submittal. This is corroborated by the monitoring data for the area, which continue to monitor attainment for the 1997 annual PM2.5 standard. IDEM's submittal confirms that in the revised SIP, onroad emissions in the area continue to decline and remain below the attainment levels.

Indiana has submitted budgets taken from the MOVES 2010a-based onroad inventories for the Evansville area. The revised budgets are displayed in table 3.

Table 3—Motor Vehicle Emission Budgets (MOVES) for the Evansville, Indiana 1997 PM2.5 Area in Tons per Year
Year | 2015 | 2022
PM2.5 | 199.93 | 100.45
NOX | 5,642.95 | 3,173.08

b. Approvability of the MOVES2010a-Based Budgets

EPA is approving the MOVES2010a-based budgets submitted by Indiana for use in determining transportation conformity in the Evansville, Indiana 1997 annual PM2.5 maintenance area. EPA evaluated the MOVES2010a-based budgets using the adequacy criteria found in 40 CFR 93.118(e)(4) and SIP requirements.

Before submitting the revised budgets, IDEM followed all necessary conformity procedures. The budgets are clearly identified and precisely quantified in the submittal. The budgets, when considered with other emissions sources, are consistent with continued maintenance of the 1997 annual PM2.5 standard. The budgets are clearly related to the emissions inventories and control measures in the SIP. The changes from the previous budgets are clearly explained with the change in the model from MOBILE6.2 to MOVES2010a and the revised and updated planning assumptions. The inputs to the model are detailed in the Appendices to the submittal. EPA has reviewed the inputs to the MOVES2010a modeling and participated in the consultation process. The Federal Highway Administration and the Indiana Department of Transportation have taken a lead role in working with the area's metropolitan planning organization to provide accurate, timely information and inputs to the MOVES2010a model runs. The state has documented that growth and control strategy assumptions for non-motor vehicle sources (i.e. area, nonroad, and point) continue to be valid and any minor updates do not change the overall conclusions of the SIP.

Indiana's submittal confirms that the SIP continues to demonstrate maintenance of the 1997 annual PM2.5 standard, and onroad NOX and PM2.5 emissions in the revised SIP continue to decrease from the attainment year to the final year of the maintenance plan for the area, as shown in tables 1 and 2.

c. Applicability of MOBILE6.2-Based Budgets

Upon the effective date of the approval of the revised budgets, the state's existing MOBILE6.2-based budgets for the area will no longer be applicable for transportation conformity purposes.

V. What action is EPA taking?

EPA is approving the onroad mobile source emissions inventories and budgets for the Evansville, Indiana 1997 annual PM2.5 maintenance plan, as submitted on July 2, 2013. We are publishing this action without prior proposal because we view this as a noncontroversial amendment and anticipate no adverse comments. However, in the proposed rules section of this Federal Register publication, we are publishing a separate document that will serve as the proposal to approve the state plan if relevant adverse written comments are filed. This rule will be effective May 19, 2014 without further notice unless we receive relevant adverse written comments by April 18, 2014. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective May 19, 2014.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 19, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Particulate matter.

Dated: March 4, 2014.
Susan Hedman,
Regional Administrator, Region 5.

40 CFR Part 52 is amended as follows:

PART 52—APPROVAL AND PROMULGATION OF IMPLEMENTATION PLANS

1. The authority citation for part 52 continues to read as follows:

Authority: 42 U.S.C. 7401 et seq.

2. In § 52.770 the table in paragraph (e) is amended by adding a new entry in alphabetical order for “Evansville/Southwest Indiana Area 1997 annual fine particulate matter maintenance plan” to read as follows:

§ 52.770 Identification of plan.

* * * * *

(e) * * *

EPA-Approved Indiana Nonregulatory and Quasi-Regulatory Provisions
Title | Indiana date | EPA Approval | Explanation
* * * * * * *
Evansville/Southwest Indiana Area 1997 annual fine particulate matter maintenance plan |  | 03/19/14, [INSERT PAGE NUMBER WHERE THE DOCUMENT BEGINS] | Revision to motor vehicle emission budgets.
* * * * * * *

3. Section 52.776 is amended by adding paragraph (v)(5) to read as follows:

§ 52.776 Control Strategy: Particulate matter.

* * * * *

(v) * * *

(5) Approval—On July 2, 2013 Indiana submitted a request to revise the approved MOBILE6.2 motor vehicle emission budgets (budgets) in the 1997 annual fine particulate matter maintenance plan for the Evansville maintenance area. The budgets are being revised with budgets developed with the MOVES2010a model. The 2015 motor vehicle emissions budgets are 199.93 tpy PM2.5 and 5,642.95 tpy NOX. The 2022 motor vehicle emissions budgets are 100.45 tpy PM2.5 and 3,173 tpy NOX.

* * * * *

[FR Doc. 2014-05903 Filed 3-18-14; 8:45 am]

BILLING CODE 6560-50-P